DEPARTMENT OF TRANSPORTATION

Federal Highway Administration

Notice of Final Federal Agency Actions on Proposed Highway in California

AGENCY: Federal Highway Administration (FHWA), Department of Transportation (DOT).

ACTION: Notice of Limitation on Claims for Judicial Review of Actions by the California Department of Transportation (Caltrans).

SUMMARY: The FHWA, on behalf of Caltrans, is issuing this notice to announce actions taken by Caltrans that are final. The actions relate to a proposed highway project, Interstate 10 at PM R53.9/R55.5 in the City of Indio, in Riverside County, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before June 14, 2021. If the Federal law that authorizes judicial review of a claim provides a time period of less than 150 days for filing such claim, then that shorter time period still applies.

FOR FURTHER INFORMATION CONTACT: For Caltrans: Renetta Cloud, Chief, Environmental Studies “A”, Caltrans District 8, 464 W 4th Street, 6th Floor, MS-823, San Bernardino, CA, 92401-1400, Office Hours: 9:00 a.m. to 4:00 p.m., Office Phone: (909) 383-6323, Email: Renetta.Cloud@dot.ca.gov. For FHWA: David Tedrick at (916) 498-5024 or email david.tedrick@dot.gov.

SUPPLEMENTARY INFORMATION: Effective July 1, 2007, the FHWA assigned, and the Caltrans assumed, environmental responsibilities for this project pursuant to 23 U.S.C. 327. Notice is hereby given that the Caltrans has taken final agency actions subject to 23 U.S.C. 139(l)(1) by issuing licenses, permits, and approvals for the following highway project in the State of California: Reconstruct and widen Monroe Street at Interstate 10 (I-10) to improve the operational performance of the Monroe Street interchange. The Monroe Street interchange is on I-10 at Post Mile (PM) Revised (R) 54.7, between PM R53.9 (approximately 2 miles east of the Jefferson Street interchange) and PM R55.5 (approximately 1 mile west of the Jackson Street interchange). The project site is centrally located within the City of Indio at the crossroad of I-10, Monroe Street, and the Coachella Valley Stormwater Channel (CVSC) in Riverside County, California. The proposed project will reconstruct Monroe Street at the interchange, including the existing on- and off-ramps, the Monroe Street I-10 overcrossing, and the bridge over the CVSC. The proposed project will also add an auxiliary lane in the eastbound direction between the Monroe Street and Jackson Street interchange, acceleration/deceleration lanes at the westbound Monroe Street on- and off-ramps, and a deceleration lane at the eastbound Monroe Street off-ramp. The actions by the Federal agencies, and the laws under which such actions were taken, are described in the Final Environmental Assessment (EA)/Finding of No Significant Impact (FONSI) for the project, approved on December 18, 2020, and in other documents in the FHWA project records. The EA/FONSI, and other project records are available by contacting Caltrans at the addresses provided above.

This notice applies to all Federal agency decisions as of the issuance date of this notice and all laws under which such actions were taken, including but not limited to:

1. Council on Environmental Quality regulations;

2. National Environmental Policy Act (NEPA);

3. Moving Ahead for Progress in the 21st Century Act (MAP-21);

4. Americans with Disabilities Act;

5. Department of Transportation Act of 1966;

6. Federal Aid Highway Act of 1970;

7. Clean Air Act Amendments of 1990;

8. Noise Control Act of 1970;

9. 23 CFR part 772 FHWA Noise Standards, Policies and Procedures;

10. Department of Transportation Act of 1966, Section 4(f);

11. Clean Water Act of 1977 and 1987;

12. Safe Drinking Water Act;

13. Executive Order 12088, Federal Compliance with Pollution Control;

14. Flood Disaster Protection Act;

15. Executive Order 11988, Floodplain Management

16. Federal Endangered Species Act of 1973;

17. Migratory Bird Treaty Act;

18. Fish and Wildlife Coordination Act;

19. Executive Order 11990, Protection of Wetlands;

20. Executive Order 13112, Invasive Species;

21. Antiquities Act of 1906;

22. National Historic Preservation Act of 1966, as amended;

23. Historic Sites Act of 1935;

24. Farmland Protection Policy Act;

25. Resource Conservation and Recovery Act of 1976;

26. Comprehensive Environmental Response, Compensation and Liability Act of 1980;

27. Toxic Substances Control Act;

28. Community Environmental Response Facilitation Act of 1992;

29. Occupational Safety and Health Act;

30. Executive Order 12898, Federal Actions to Address Environmental Justice and Low-Income Populations; and

31. Title VI of the Civil Rights Act of 1964.

(Catalog of Federal Domestic Assistance Program Number 20.205, Highway Planning and Construction. The regulations implementing Executive Order 12372 regarding intergovernmental consultation on Federal programs and activities apply to this program.)

Authority: 23 U.S.C. 139(l)(1).

Issued on: January 7, 2021.
Rodney Whitfield,
Director, Financial Services, Federal Highway Administration, California Division.

[FR Doc. 2021-00507 Filed 1-12-21; 8:45 am]

BILLING CODE 4910-RY-P